DEPARTMENT OF AGRICULTURE

Food and Nutrition Service

Agency Information Collection Activities: Proposed Collection; Comment Request—Form FNS-648, WIC Local Agency Directory Report

AGENCY: Food and Nutrition Service, USDA.

ACTION: Notice.

SUMMARY: In accordance with the Paperwork Reduction Act of 1995, this notice announces the Food and Nutrition Service's (FNS) intention to request an extension for a currently approved information collection, the Special Supplemental Nutrition Program for Women, Infants, and Children (WIC) Local Agency Directory Report which lists the names and addresses of all WIC local agencies.

DATES: Written comments on this notice must be received by February 18, 2014.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Comments may be sent to: Debra Whitford, Director, Supplemental Food Programs Division, Food and Nutrition Service, U.S. Department of Agriculture, 3101 Park Center Drive, Room 520, Alexandria, VA 22302. Comments will also be accepted through the Federal eRulemaking Portal. Go to http://www.regulations.gov and follow the online instructions for submitting comments electronically.

All responses to this notice will be summarized and included in the request for OMB approval, and will become a matter of public record.

FOR FURTHER INFORMATION CONTACT: Requests for additional information or copies of the information collection form and instructions should be directed to: Joan Carroll, (703) 305-2729.

SUPPLEMENTARY INFORMATION:

Title: WIC Local Agency Directory.

Form Number: FNS-648.

OMB Number: 0584-0431.

Expiration Date: 04/30/2014.

Type of Request: Extension, without change, of a currently approved collection.

Abstract: FNS administers the Special Supplemental Nutrition Program for Women, Infants, and Children (WIC) by awarding cash grants to State agencies (generally State health departments). The State agencies award subgrants to local agencies (generally local health departments and nonprofit organizations) to deliver program benefits and services to eligible participants. FNS maintains a WIC Local Agency Directory which lists the names and addresses of all WIC local agencies. WIC State and local agencies and FNS use the directory to refer individuals to the nearest source of WIC Program services and to maintain continuity of program services to migrant and other transient participants. It is also used as a mailing list to provide local agencies with technical assistance manuals and other information. State agencies complete the WIC Local Agency Directory Report Form FNS-648 to inform FNS when a local agency is newly established, closed or changes its address. This data is needed to keep the directory current. The number of WIC State Agencies reporting remains at 90.

Respondents: Directors or Administrators of WIC State agencies.

Estimated Number of Respondents: 90 respondents.

Estimated Number of Responses per Respondent: 1.

Estimated Total Annual Responses: 90.

Estimated Time per Response: Public reporting burden for this collection of information is estimated to average 0.17 hours per response, including the time for reviewing instructions, searching existing data sources, gathering and maintaining the data needed, and completing and reviewing the collection of information.

Estimated Total Annual Burden on Respondents: 15.3 hours.

Dated: December 5, 2013.
Audrey Rowe,
Administrator, Food and Nutrition Service.

[FR Doc. 2013-30331 Filed 12-19-13; 8:45 am]

BILLING CODE 3410-30-P